NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before September 18, 2003. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Air Force, Agency-wide (N1-AFU-03-13, 5 items, 5 temporary items). Records relating to identifying and assisting family members of Air Force personnel who are in need of medical and/or early intervention services, including electronic copies of records created using electronic mail and word processing.

2. Department of the Army, Agency-wide (N1-AU-03-15, 3 items, 3 temporary items). Continuity of operations program records accumulated by offices other than the office with Army-wide responsibility. Included are plans, instructions, coordinating actions, initial and interim reports, and final emergency operations reports. Also included are electronic copies of documents created using electronic mail and word processing. This schedule authorizes the agency to apply the proposed disposition instructions to any recordkeeping medium.

3. Department of the Army, Agency-wide (N1-AU-03-16, 3 items, 3 temporary items). Background materials used to prepare studies relating to unconventional warfare and psychological operations, including electronic copies of documents created using electronic mail and word processing. This schedule also authorizes the agency to apply the proposed disposition instructions to any recordkeeping medium. Recordkeeping copies of the studies to which these files relate were previously approved for permanent retention.

4. Department of the Army, Agency-wide (N1-AU-03-20, 2 items, 2 temporary items). Records relating to Army National Guard and Army Reserve incentive programs involving such benefits as enlistment bonuses, educational assistance, and repayment of student loans. Records include determinations, legal opinions, statistics, and reports. Also included are electronic copies of documents created using electronic mail and word processing. This schedule authorizes the agency to apply the proposed disposition instructions to any recordkeeping medium.

5. Department of the Army, Agency-wide (N1-AU-03-21, 3 items, 3 temporary items). Records relating to Army educational incentives and entitlements. Records include documentation on eligible participants and information related to inquiries and corrective actions to aid soldiers and veterans in obtaining educational benefits. Also included are electronic copies of documents created using electronic mail and word processing. This schedule authorizes the agency to apply the proposed disposition instructions to any recordkeeping medium.

6. Department of Energy, Bonneville Power Administration (N1-305-03-3, 6 items, 6 temporary items). Records relating to procurement, materials management, and quality assurance, including such matters as the disposal of excess material and equipment, the agency's quality assurance program, and material specifications. Also included are electronic copies of records created using electronic mail and word processing. This schedule revises retention periods for these items, which were previously approved for disposal.

7. Department of Health and Human Services, Office of the Secretary (N1-468-03-2, 3 items, 3 temporary items). Records relating to weekly conference calls between headquarters and regional offices of the Office of General Counsel. Included are sound recordings, transcriptions, written summaries, and finding aids. Also included are electronic copies of records created using electronic mail and word processing.

8. Department of Homeland Security, Transportation Security Administration (N1-560-03-1, 20 items, 16 temporary items). Records of the Office of Chief Counsel, including such records as general legal files, personnel-related legal assistance files, protests to the Comptroller General, legal subject files, claim files, civil and criminal enforcement files, and international law files. Also proposed for disposal are electronic copies of documents created using word processing and electronic mail. Records proposed for permanent retention include recordkeeping copies of significant litigation files, enacted legislation files, significant regulation and rulemaking files, and formal legal opinion case files.

9. Department of Justice, Drug Enforcement Administration (N1-170-03-07, 6 items, 6 temporary items). Inputs, electronic data, outputs, and documentation associated with the Diversion Validation Tracking and Electronic Filing System, which tracks funding allocated to support the agency's diversion program. Also included are electronic copies of documents created using electronic mail and word processing.

10. Department of State, Office of War Crimes Issues (N1-59-02-2, 2 items, 1 temporary item). Electronic copies of records created using electronic mail and word processing associated with the office's program files. Recordkeeping copies of these records are proposed for permanent retention.

11. Department of the Treasury, Bureau of the Public Debt (N1-53-03-10, 1 item, 1 temporary item). Surveillance tapes of exterior building areas and interior entrance areas. This schedule authorizes the agency to destroy these records after a retention period that is shorter than the retention period included in General Records Schedule 21, Item 18.

12. Department of the Treasury, Bureau of the Public Debt (N1-53-03-11, 5 items, 5 temporary items). Forms, correspondence, and reports needed to process securities transactions and letters and reports relating to attempts to contact owners of unredeemed securities or owners with undeliverable securities or payments. Also included are electronic copies of documents created using electronic mail and word processing.

13. Department of the Treasury, U.S. Mint (N1-104-03-2, 2 items, 1 temporary item). Electronic copies of records created using electronic mail and word processing that are associated with financial operations reports. Recordkeeping copies of these files are proposed for permanent retention.

14. Department of the Treasury, U.S. Mint (N1-104-03-4), 2 items, 2 temporary items). Economic Crimes Unit investigative records. Records include original complaints, transmittal memorandums, and related documents. Also included are electronic copies or records created using electronic mail and word processing.

15. Peace Corps, Office of Overseas Posts (N1-490-02-2, 12 items, 8 temporary items). Records relating to post startup and closeout, funding and other financial matters, and volunteer living allowances and stipends. Also included are electronic copies of records created using word processing and electronic mail. Proposed for permanent retention are recordkeeping copies of briefing books, country welcome books, country graduation books, and legacy reports.

16. Tennessee Valley Authority, Fossil Power Group (N1-142-03-3, 8 items, 6 temporary items). Design and construction drawings documenting the layout of structures and equipment at fossil power plants that are lacking in historical value. Records are maintained in paper and microfilm and as scanned images. Also included are electronic copies of documents created using electronic mail and word processing. Proposed for permanent retention are hard copy and electronic versions of drawings having historical value, such as site general plan drawings, drawings of structures, and switchyard drawings.

Dated: July 25, 2003.
Michael J. Kurtz,
Assistant Archivist for Record Services—Washington, DC.

[FR Doc. 03-19652 Filed 8-1-03; 8:45 am]

BILLING CODE 7515-01-P